DEPARTMENT OF AGRICULTURE

Grain Inspection, Packers and Stockyards Administration

Proposed Posting of Stockyards

AGENCY: Grain Inspection, Packers and Stockyards Administration, USDA.

ACTION: Notice and request for comments.

SUMMARY: We propose to post five stockyards. We have received information that the stockyards meet the definition of a stockyard under the Packers and Stockyards Act and, therefore, need to be posted. Posted stockyards are subject to the provisions of the Packers and Stockyards Act.

DATES: We will consider comments that we receive by November 24, 2003.

ADDRESSES: Send comments via electronic mail to comments.gipsa@usda.gov. Send hardcopy written comments to Tess Butler, GIPSA, USDA, 1400 Independence Avenue, SW., Room 1647-S, Washington, DC 20250-3604, or fax to (202) 690-2755. All comments should make reference to the date and page number of this issue of the Federal Register, and will be available for public inspection in the above office during regular business hours (7 CFR 1.27(b)).

SUPPLEMENTARY INFORMATION: The Grain Inspection, Packers and Stockyards Administration (GIPSA) administers and enforces the Packers and Stockyards Act of 1921, as amended and supplemented (7 U.S.C. 181-229) (P&S Act). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows:

* * * any place, establishment, or facility commonly known as stockyards, conducted, operated, or managed for profit or nonprofit as a public market for livestock producers, feeders, market agencies, and buyers, consisting of pens, or other inclosures, and their appurtenances, in which live cattle, sheep, swine, horses, mules, or goats are received, held, or kept for sale or shipment in commerce.

Section 302(b) of the P&S Act requires the Secretary to determine which stockyards meet this definition, and to notify the owner of the stockyard and the public of that determination by posting a notice in each designated stockyard. After giving notice to the stockyard owner and to the public, the stockyard will be subject to the provisions of Title III of the Packers and Stockyards Act (7 U.S.C. 201-203 and 205-217a) until the Secretary deposts the stockyard by public notice.

This document notifies the stockyard owners and the public that the following five stockyards meet the definition of stockyard and that we propose to designate the stockyards as posted stockyards.

Facility No. | Stockyard name and location
AR-176 | 101 Livestock Auction, Blackwell, Arkansas.
GA-225 | Bradley-Wayside Auction Co., Inc., Gray, Georgia.
MO-285 | Gainesville Livestock Auction, Inc., Gainesville, Missouri.
TN-193 | Lewisburg Livestock, Columbia, Tennessee.
WI-147 | WFA Cattle Sales, Brooklyn, Wisconsin.

Authority: 7 U.S.C. 202.

Dated: November 4, 2003.
Donna Reifschneider,
Administrator, Grain Inspection, Packers and Stockyards Administration.

[FR Doc. 03-28064 Filed 11-6-03; 8:45 am]

BILLING CODE 3410-EN-P